SOCIAL SECURITY ADMINISTRATION

Agency Information Collection Activities: Proposed Request and Comment Request

The Social Security Administration (SSA) publishes a list of information collection packages that will require clearance by the Office of Management and Budget (OMB) in compliance with Pub. L. 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the SSA Reports Clearance Officer and to the OMB Desk Officer at the following addresses:

(OMB): Attn: Desk Officer for SSA, New Executive Office Building, Room 10230, 725 17th St., NW, Washington, D.C. 20503

(SSA): Social Security Administration, DCFAM, Attn: Frederick W. Brickenkamp 1-A-21 Operations Bldg., 6401 Security Blvd., Baltimore, MD 21235

I. The information collections listed below will be submitted to OMB within 60 days from the date of this notice. Your comments should be submitted to SSA within 60 days from the date of this publication. You can obtain a copy of the collection instruments by calling the SSA Reports Clearance Officer at 410-965-4145, or by writing to him at the address listed above.

1. Statement for Continuing Eligibility, Supplemental Security Income (SSI) Cases—0960-0416. SSA uses form SSA-8203-BK for high-error-profile (HEP) redeterminations completed by field offices. SSA employees conduct telephone or face-to face interviews with SSI recipients and representative payees of SSI recipients and document the information gathered during the interview on an SSA-8203-BK. Occasionally, due to systems limitations, the form is mailed to recipients for completion. A tear-off sheet (Pages 7 and 8 of the form) is given to recipients at the conclusion of a face-to-face interview or mailed to recipients at the completion of the telephone interview. It includes information about how, what, when, where, and why SSI recipients report when there is a change in income, resources, or living arrangements. The information collected is used to determine whether SSI recipients have met and continue to meet all statutory and regulatory requirements for SSI eligibility and whether they have been and are still receiving the correct payment amount. Periodic collection of this information is the only way SSA can make these determinations. The respondents are recipients of title XVI (SSI) benefits or their representative payees.

Number of Respondents: 920,000.

Frequency of Response: 1.

Average Burden Per Response: 17 minutes.

Estimated Annual Burden: 260,667 hours.

2. Claimant's Statement About Loan of Food or Shelter (SSA-5062), and Statement About Food or Shelter Provided to Another (SSA-L5063)—0960-0529. Forms SSA-5062 and SSA-L5063 are used to obtain statements about food and/or shelter provided to an SSI claimant. SSA uses the information to determine whether food and/or shelter are a bona fide loan or should be counted as income. This determination can affect eligibility for SSI and the amount of SSI benefits payable. The respondents are claimants for SSI benefits and individuals who provide (loan) food or shelter to SSI Claimants.

| SSA-5062 | SSA-L5063
Number of Respondents | 65,540 | 65,540
Frequency of Response | 1 | 1
Average Burden Per Response (minute) | 10 | 10
Estimated Annual Burden (hours) | 10,923 | 10,923

II. The information collections listed below have been submitted to OMB for clearance. Your comments on the information collections would be most useful if received by OMB and SSA within 30 days from the date of this publication. You can obtain a copy of the OMB clearance package by calling the SSA Reports Clearance Officer on (410) 965-4145, or by writing to him at the address listed above.

1. Request for Withdrawal of Application—0960-0015. Form SSA-521 is completed by SSA when an individual wishes to withdraw his or her application for Social Security benefits. The respondents are individuals who wish to withdraw their applications for benefits.

Number of Respondents: 100,000.

Frequency of Response: 1.

Average Burden Per Response: 5 minutes.

Estimated Annual Burden: 8,333 hours.

2. Statement of Self-Employment Income—0960-0046. SSA uses the information on Form SSA-766 to expedite the payment of Social Security benefits to an individual who is self-employed and who is establishing insured status in the current year. The respondents are self-employed persons.

Number of Respondents: 5,000.

Frequency of Response: 1.

Average Burden Per Response: 5 minutes.

Estimated Annual Burden: 417 hours.

3. Certification by Religious Group—0960-0093. The data that SSA collects via form SSA-1458 is used to determine if the religious group meets the qualifications set out in section 1402(g) of the Internal Revenue Code permitting its members to be exempt from payment of certain Social Security taxes. The respondents are spokespersons for a religious group or sect.

Number of Respondents: 180.

Frequency of Response: 1.

Average Burden Per Response: 15 minutes.

Estimated Annual Burden: 45 hours.

4. You Can Make Your Payment by Credit Card—0960-0462. Forms SSA-4588 and SSA-4589 provide information to SSA on the debtor's name, Social Security Number, credit card number, the amount being paid and the credit card type so that a remittance can be credited to the debtor's account. The respondents are Title II (Old-Age, Survivors and Disability Insurance) and Title XVI (SSI) debtors, and citizens requesting material through SSA.

Number of Respondents: 19,000.

Frequency of Response: 1.

Average Burden Per Response: 5 minutes.

Estimated Annual Burden: 1,583 hours.

5. Statement Regarding Contributions—0960-0020. To determine eligibility of child applicants to Social Security benefits, SSA must collect information about the source of support and the amount of contributions. SSA uses the form SSA-783 for this purpose. The respondents are individuals who provide information to SSA about the child's sources of support.

Number of Respondents: 30,000.

Frequency of Response: 1.

Average Burden Per Response: 15 minutes.

Estimated Annual Burden: 7,500 hours.

6. Medical Parking Permit Application—0960-NEW. SSA issues medical parking assignments at SSA-owned and leased facilities to individuals who have a medical condition that meets the criteria for medical parking. In order to issue a medical parking permit, SSA must obtain medical evidence from the applicant's physician. SSA uses the information collected on form SSA-3192 to determine whether the individual qualifies for a medical parking permit and to issue the permit. The respondents are physicians of applicants for medical parking permits.

Number of Respondents: 144.

Frequency of Response: 1.

Average Burden Per Response: 1 hour.

Estimated Annual Burden: 144 hours.

7. Authorization for Source to Release Information to SSA—0960-NEW. SSA must obtain sufficient medical evidence to make eligibility determinations for Social Security disability benefits and SSI payments. For SSA to obtain medical evidence, an applicant must authorize his or her medical source(s) to release the information to SSA. The applicant may use one of the forms SSA-827, SSA-827-OP1 or SSA-827-OP2 to provide consent for the release of information. Generally, the State Disability Determination Services completes the form(s), based on information provided by the applicant, and sends the form(s) to the designated medical source(s).

Number of Respondents: 3,853,928.

Frequency of Response (Average per case): 4.

Average Burden Per Response: 3 minutes.

Estimated Annual Burden: 770,786 hours.

8. Lump-Sum Death Payment Application (Modernized Claims System)—0960-NEW. The information is collected through a computerized system and is required to authorize payment of the lump-sum death benefit to a widow, widower, or children as defined in Section 202(i) of the Social Security Act. The respondents are widows, widowers or children who apply for a lump-sum death payment.

Number of Respondents: 833,000.

Frequency of Response: 1.

Average Burden Per Response: 20 minutes.

Estimated Annual Burden: 277,667 hours.

9. Electronic Death Registration (EDR) Survey—0960-NEW.

Background Information

In January 1997, the report “Toward an Electronic Death Registration System in the United States: Report of the Steering Committee to Reengineer the Death Registration Process” was prepared by a task force representing Federal agencies (the National Center for Health Statistics and the Social Security Administration) and professional organizations representing funeral directors, physicians, medical examiners, coroners, hospitals, medical records professionals, and vital records and statistics officials (NAPHSIS). The committee examined in detail the feasibility of developing electronic death registration in the United States. The conclusion of the report was that the introduction of automated registration processes in the States is a viable means to resolve several historical and continuing problems in the process of death registration.

Death certificates are used in the United States for administrative and public health purposes. For nearly a century the States have maintained centralized vital records agencies to collect, process and archive death certificates. Death records are universally recognized as the primary source of death information, but registration processes remain labor intensive, employ disparate and limited automated procedures, and require several professionals at different locations to complete each of the more than 2.3 million death certificates registered each year.

Even though each State has laws requiring the registration of death records within a specific time period, a significant number of certificates are not appropriately filed, may contain incorrect or inconsistent entries, or are not finalized until many weeks after the death occurred.

The States and Federal agencies understand the shortcomings of death registration methods currently practiced in the United Sates. Now that recent advances in computer and network access technology allow for the practical and efficient development and implementation of automated systems to register death information, several registration areas have independently pioneered electronic death registration methods. These different approaches will serve as the basis for developing standardized EDR attributes, methods and processes in order that the States may successfully implement electronic death registration to satisfy administrative and statistical death information needs.

Information Collection

In support of the EDR project, SSA entered into a contract with the National Association for Public Health Statistics and Information Systems to foster the adoption of a standardized form of EDR throughout the country. As the beginning step in the process, this survey is planned to provide a current picture of the readiness of the States to adopt EDR. This will, in turn, assist SSA to direct available funding anticipated in future years to those States that demonstrate sufficient resources, available technical expertise, and the political will and statutory readiness to implement EDR within the contract timeframe. Respondents to the survey will be officials from States, U.S. Territories and the city of New York with the knowledge and expertise to complete the survey. One survey will be sent to each State and territory and New York City.

Number of Respondents: 55.

Frequency of Response: 1.

Average Burden Per Response: 2 hours.

Estimated Annual Burden: 110 hours.

Dated: July 21, 2000.
Frederick W. Brickenkamp,
SSA Reports Clearance Officer.

[FR Doc. 00-19041 Filed 7-27-00; 8:45 am]

BILLING CODE 4191-02-P